DEPARTMENT OF COMMERCE

International Trade Administration

[A-570-890]

Wooden Bedroom Furniture From the People's Republic of China: Final Results of Changed Circumstances Review

AGENCY: Enforcement and Compliance, International Trade Administration, Department of Commerce.

SUMMARY: On February 7, 2017, the Department of Commerce (the “Department”) published its notice of initiation and preliminary results of a changed circumstances review (“CCR”) of the antidumping duty (“AD”) order on wooden bedroom furniture (“WBF”) from the People's Republic of China (“PRC”) (Preliminary Results). The Department preliminarily determined that Yihua Lifestyle Technology Co., Ltd. (“Yihua Tech”) is the successor-in-interest to Guangdong Yihua Timber Industry Co., Ltd. (“Yihua Timber”) for purposes of the AD order on WBF from the PRC and, as such, is entitled to Yihua Timber's AD cash deposit rate with respect to entries of subject merchandise. We invited interested parties to comment on the Preliminary Results. As no parties submitted comments, and there is no other information or evidence on the record calling into question our Preliminary Results, the Department is making no changes to the Preliminary Results. For these final results, the Department continues to find that Yihua Tech is the successor-in-interest to Yihua Timber.

DATES: Effective March 22, 2017.

FOR FURTHER INFORMATION CONTACT: Jonathan Hill, AD/CVD Operations, Office IV, Enforcement and Compliance, International Trade Administration, U.S. Department of Commerce, 1401 Constitution Avenue NW., Washington, DC 20230; telephone: (202) 482-3518.

SUPPLEMENTARY INFORMATION:

Background

On January 5, 2005, the Department published the AD order on WBF from the PRC.¹ On July 28, 2016, Yihua Tech requested that the Department initiate an expedited CCR and determine that it is the successor-in-interest to Yihua Timber for purposes of determining AD liabilities.² On February 7, 2017, the Department initiated a CCR and made a preliminary finding that Yihua Tech is the successor-in-interest to Yihua Timber and is entitled to Yihua Timber's AD cash deposit rate with respect to entries of subject merchandise.³ We provided interested parties 14 days from the date of publication of the Preliminary Results to submit case briefs. No interested parties submitted case briefs or requested a hearing.

¹ See Notice of Amended Final Determination of Sales at Less Than Fair Value and Antidumping Duty Order: Wooden Bedroom Furniture from the People's Republic of China, 70 FR 329 (January 4, 2005) (“Order”).

² See Letter from Yihua Tech to the Secretary of Commerce “Wooden Bedroom Furniture from the People's Republic of China (AD) and Multilayered Wood Flooring from the People's Republic of China (AD/CVD); Request for Changed Circumstances Review,” dated July 28, 2016 (“CCR Request”).

³ See Wooden Bedroom Furniture From the People's Republic of China: Initiation and Preliminary Results of Antidumping Duty Changed Circumstances Review; 82 FR 9560 (February 7, 2017) (“Preliminary Results”) and accompanying Preliminary Decision Memorandum.

Scope of the Order

The product covered by the order is wooden bedroom furniture, subject to certain exceptions.⁴ Imports of subject merchandise are classified under the Harmonized Tariff Schedule of the United States (“HTSUS”) subheadings: 9403.50.9042, 9403.50.9045, 9403.50.9041, 9403.60.8081, 9403.20.0018, 9403.90.8041, 7009.92.1000, or 7009.92.5000. Although the HTSUS subheadings are provided for convenience and customs purposes, the written product description in the Order remains dispositive.⁵

⁴ See Order, 70 FR at 332-33.

⁵ For a complete description of the Scope of the Order, please see Preliminary Results and accompanying Preliminary Decision Memorandum.

Final Results of Changed Circumstances Review

Because the record contains no information or evidence that calls into question the Preliminary Results, for the reasons stated in the Preliminary Results, the Department continues to find that Yihua Tech is the successor-in-interest to Yihua Timber, and is entitled to Yihua Timber's AD cash deposit rate with respect to entries of subject merchandise.⁶

⁶ For a complete discussion of the Department's findings, which remain unchanged in these final results and which are herein incorporated by reference and adopted by this notice, see generally the Preliminary Decision Memorandum accompanying the Preliminary Results.

Instructions to U.S. Customs and Border Protection

Based on these final results, we will instruct U.S. Customs and Border Protection to collect estimated AD duties for all shipments of subject merchandise exported by Yihua Tech and entered, or withdrawn from warehouse, for consumption on or after the publication date of this notice in the Federal Register at the current AD cash deposit rate for Yihua Timber (i.e., 21.53 percent).⁷ These cash deposit requirements shall remain in effect until further notice.

⁷ See Wooden Bedroom Furniture from the People's Republic of China: Notice of Court Decision Not in Harmony with Final Results of Administrative Review and Notice of Amended Final Results of Administrative Review Pursuant to Court Decision, 79 FR 68410 (November 17, 2014).

Notification to Interested Parties

This notice serves as a final reminder to parties subject to administrative protective order (“APO”) of their responsibility concerning the disposition of proprietary information disclosed under APO in accordance with 19 CFR 351.305(a)(3). Timely written notification of the return/destruction of APO materials or conversion to judicial protective order is hereby requested. Failure to comply with the regulations and terms of an APO is a sanctionable violation.

We are issuing and publishing this final results notice in accordance with sections 751(b) and 777(i) of the Tariff Act of 1930, as amended, and 19 CFR 351.216 and 351.221(c)(3).

Dated: March 14, 2017.
Ronald K. Lorentzen,
Acting Assistant Secretary for Enforcement and Compliance.

[FR Doc. 2017-05667 Filed 3-21-17; 8:45 am]

BILLING CODE 3510-DS-P